NATIONAL LABOR RELATIONS BOARD

5 CFR Part 7101

RIN 3209-AA57

Supplemental Standards of Ethical Conduct for Employees of the National Labor Relations Board

AGENCY: National Labor Relations Board.

ACTION: Final rule.

SUMMARY: The National Labor Relations Board (“NLRB” or “Board”), with the concurrence of the U.S. Office of Government Ethics (OGE), is issuing this final procedural rule amending the Supplemental Standards of Ethical Conduct for Employees of the National Labor Relations Board (NLRB Supplemental Ethics Regulations) to eliminate an out-of-date and unnecessary reference to the identity of its Designated Agency Ethics Official (DAEO) and Alternate Designated Agency Ethics Official (ADAEO) from its regulations.

DATES: This amendment is effective July 20, 2020.

FOR FURTHER INFORMATION CONTACT: Roxanne Rothschild, Executive Secretary, National Labor Relations Board, 1015 Half Street SE, Washington, DC 20570-0001, (202) 273-1940 (this is not a toll-free number), 1-866-315-6572 (TTY/TDD).

SUPPLEMENTARY INFORMATION:

I. Background

On August 7, 1992, OGE published the Standards of Ethical Conduct for Employees of the Executive Branch (OGE Standards). See 57 FR 35006-35067, as corrected at 57 FR 48557, 57 FR 52483, and 60 FR 51167. The OGE Standards, codified at 5 CFR part 2635, established uniform standards of ethical conduct that apply to all executive branch personnel.

Pursuant to 5 CFR 2635.105, executive branch agencies are authorized to publish, with the concurrence of OGE, agency-specific supplemental regulations that are deemed necessary to properly implement their respective ethics programs. On February 12, 1997, the NLRB, with OGE's concurrence, published in the Federal Register an interim final rule to establish the NLRB Supplemental Ethics Regulations. 62 FR 6445. The NLRB is now amending the NLRB Supplemental Ethics Regulations to remove an out-of-date provision, 5 CFR 7101.101(b), which designates the Director of the NLRB's Division of Administration as the NLRB's DAEO and the Deputy Director of Administration as the NLRB's ADAEO.

The NLRB, in concurrence with OGE, is making this change because these provisions are inconsistent with the NLRB's current organizational structure. The Board restructured its headquarters offices in 2013 and 2016, resulting in a separate Ethics Office that is apart from the Division of Administration. The Board, in 2016, designated the head of the Ethics Office as the DAEO and submitted that designation to OGE. The Board notified the public of these organizational changes at the time they occurred in Federal Register notices. 81 FR 4069 (Jan. 25, 2016); 78 FR 44981 (July 25, 2013). The Board intends no change to its 2016 DAEO designation with this rulemaking.

The NLRB is also removing provisions in § 7101.101(b) that list some of the DAEO's responsibilities, which are similarly out of date. Detailed qualifications and responsibilities for DAEOs and ADAEOs at all agencies are found in OGE's regulations at 5 CFR 2638.104. Thus, removing the redundant provisions from paragraph (b) will eliminate confusion that could result from any inconsistencies between the two regulations.

The deletion of § 7101.101(b) will therefore update the NLRB's Supplemental Ethics Regulations so that they are no longer inconsistent with the NLRB's current organizational structure. This change will make the NLRB Supplemental Ethics Regulations consistent with those of most other executive branch agencies, which do not designate ethics officials or delineate their responsibilities in their supplemental ethics regulations.

The Board is also revising the introductory sentence of the redesignated § 7101.101(b) (formerly § 7101.101(c)) to read “Agency's designee” instead of “Agency designees” because the revised regulation solely refers to the DAEO, and no longer refers to both the DAEO and ADAEO.

II. Matters of Regulatory Procedure

Administrative Procedure Act

This rule is published as a final rule. The NLRB considers this rule to be a procedural rule that is exempt from notice and public comment, pursuant to 5 U.S.C. 553(b)(3)(A), as a rule of “agency organization, procedure, or practice.”

Paperwork Reduction Act

The amended regulations contain no additional information-collection or record-keeping requirements under the Paperwork Reduction Act of 1995, 44 U.S.C. 3501, et seq.

List of Subjects in 5 CFR Part 7101

Conflict of interests, Government employees.

For the reasons set forth in the preamble, the NLRB amends 5 CFR part 7101 as follows:

PART 7101—SUPPLEMENTAL STANDARDS OF ETHICAL CONDUCT FOR EMPLOYEES OF THE NATIONAL LABOR RELATIONS BOARD

1. The authority citation for 5 CFR part 7101 continues to read as follows:

Authority: 5 U.S.C. 7301; 5 U.S.C. App. (Ethics in Government Act of 1978); 29 U.S.C. 141, 156; E.O. 12674, 54 FR 15159, 3 CFR, 1989 Comp., p. 215, as modified by E.O. 12731, 55 FR 42457, 3 CFR, 1990 Comp., p. 306; 5 CFR 2635.105, 2635.402(c), 2635.803, and 2638.202(b).

§ 7101.101 [Amended]

2. Amend § 7101.101 by

a. Removing paragraph (b) and redesignating paragraph (c) as paragraph (b);

b. Amending newly redesignated paragraph (b) by removing the words “Agency's designees” and adding in their place “Agency designee.”

Dated: June 2, 2020.
Roxanne L. Rothschild,
Executive Secretary, National Labor Relations Board.
Emory Rounds,
Director, U.S. Office of Government Ethics.

[FR Doc. 2020-14544 Filed 7-17-20; 8:45 am]

BILLING CODE 7545-01-P